DEPARTMENT OF TRANSPORTATION

Surface Transportation Board

[STB Finance Docket No. 33892]

Northeast Texas Rural Rail Transportation District—Acquisition Exemption—Lines of the Union Pacific Railroad Company

The Northeast Texas Rural Rail Transportation District (NETEX), a political subdivision of the State of Texas, Class III rail carrier, has filed a notice of exemption under 49 CFR 1150.41 to acquire pursuant to an agreement entered into with the Union Pacific Railroad Company (UP), as indicated in its notice, approximately 34.6 miles of UP's rail line from milepost 524.0 west of Sulphur Springs, TX, proceeding easterly to milepost 489.41 at the eastern county line of Franklin County, TX, and NETEX further indicates that, pursuant to a trackage rights agreement with UP, it will also acquire incidental trackage rights over approximately 10.41 miles of UP's line between milepost 489.41 and milepost 479.0 for the purpose of interchanging traffic with UP. NETEX certifies that its projected revenues will not result in the creation of a Class II or Class I rail carrier.¹

¹ NETEX states that the Blacklands Railroad Company (BLRR) is also a party to the trackage rights agreement.

NETEX currently owns a connecting rail line of approximately 31 miles from milepost 555.0 near Greenville, TX, to milepost 524.0, just west of Sulphur Springs, and possesses trackage rights over UP's line between milepost 524.0 and milepost 517.0. Until now, the trackage rights over this 7-mile segment appear to have been limited to interchanging and switching traffic at Sulphur Springs.² NETEX currently contracts with BLRR for operations over these lines.³

² See East Texas Central Railroad, Inc.—Operation Exemption—Northeast Texas Rural Rail Transportation District, STB Finance Docket No. 32841 (Sub-No. 1) (STB served Sept. 27, 1996).

³ See The Blacklands Railroad Company—Operation Exemption—Lines of Northeast Texas Rural Rail Transportation District, STB Finance Docket No. 33708 (STB served Feb. 16, 1999).

The transaction was scheduled to be consummated on or after July 17, 2000.

This transaction is related to STB Finance Docket No. 33893, The Blacklands Railroad Company—Operation Exemption—Lines of Northeast Texas Rural Rail Transportation Company, wherein BLRR seeks to conduct common carrier freight operations over the line being acquired by NETEX.

If the notice contains false or misleading information, the exemption is void ab initio. Petitions to revoke the exemption under 49 U.S.C. 10502(d) may be filed at any time. The filing of a petition to revoke will not automatically stay the transaction.

An original and 10 copies of all pleadings, referring to STB Finance Docket No. 33892, must be filed with the Surface Transportation Board, Office of the Secretary, Case Control Unit, 1925 K Street, N.W., Washington, DC 20423-0001. In addition, one copy of each pleading must be served on Harold Curtis, Jr., 2708 Washington Street, Greenville, TX 75401.

Board decisions and notices are available on our website at “WWW.STB.DOT.GOV.”

Decided: July 19, 2000.
By the Board, David M. Konschnik, Director, Office of Proceedings.
Vernon A. Williams,
Secretary.

[FR Doc. 00-18800 Filed 7-25-00; 8:45 am]

BILLING CODE 4915-00-P